DEPARTMENT OF THE INTERIOR

National Park Service

[NPS-WASO-NAGPRA-NPS0038624; PPWOCRADN0-PCU00RP14.R50000]

Notice of Inventory Completion: Museum of Texas Tech University, Lubbock, TX

AGENCY: National Park Service, Interior.

ACTION: Notice.

SUMMARY: In accordance with the Native American Graves Protection and Repatriation Act (NAGPRA), the Museum of Texas Tech University has completed an inventory of human remains and associated funerary objects and has determined that there is a cultural affiliation between the human remains and associated funerary objects and Indian Tribes or Native Hawaiian organizations in this notice.

DATES: Repatriation of the human remains and associated funerary objects in this notice may occur on or after October 3, 2024.

ADDRESSES: Dr. Eileen Johnson, Museum of Texas Tech University, 3301 4th Street, Lubbock, TX 79415, telephone (806) 742-2442, email eileen.johnson@ttu.edu. Mailing Address: Dr. Eileen Johnson, Museum of Texas Tech University, Box 43191, Lubbock, TX 79409

SUPPLEMENTARY INFORMATION: This notice is published as part of the National Park Service's administrative responsibilities under NAGPRA. The determinations in this notice are the sole responsibility of the Museum of Texas Tech Univresity, and additional information on the determinations in this notice, including the results of consultation, can be found in the inventory or related records. The National Park Service is not responsible for the determinations in this notice.

Abstract of Information Available

Based on the information available, human remains representing, at least, 17 individuals have been reasonably identified. The 31,401 associated funerary objects are: an awl; awl case; beads; bear claws; bells; belt; bridle parts; bowl; bracelets; bridle ornaments; buckles; bugle; buttons; canisters; chains; cloth; conchos cordage; decorated fringe; elk horn scrapers with blades; faunal material; files; fossil; hammer; handles; harmonica; horse hair; bone tubes; jingles; leather; lithics; pieces of metal; metal pipe; mirrors; nails; necklaces; soapstone pipe; pouch with vermillion; rings; rivets; robe; saddle; saddle horns; saddle ornaments; saddle parts; shell hair pipes; sinew; spoons; stirrups; tacks; tinklers; unidentified organic materials; unworked stone; whip; whistle; wood pieces; and wood tubes.

Between 1929 and 1939, human skeletal remains representing at least one juvenile individual were found near Paducah, Texas and removed by Mac Biddy. Biddy donated the human skeletal remains and associated funerary objects to the Museum between 1929 and 1939. The 294 associated funerary objects include: beads; cloth; a harmonica; buttons; studs and tacks; bells; stirrups; bridle bits; chain; bracelets; metal rings; metal files; handles; conchos; saddle ornaments; buckles; a spoon; a hammer head; canisters; leather pieces; sinew pieces; wood pieces; a ceremonial whip handle; a can; and metal pieces.

In 1940, human remains representing at least two adult individuals were found by the Civilian Conservation Corps working on the Dean Ranch near Lamesa, Texas. The human skeletal remains and associated funerary objects were removed by Porter Montgomery (Museum employee) and accessioned in 1940. The 56 associated funerary objects include: bracelets; spoon; metal pipe; cone jingles; metal pieces; beads; leather pieces; elk horn scrapers with metal blades; incised bone tube; and a Mesozoic tooth segment.

In the 1930s, human skeletal remains representing at least four individuals (two adult, one juvenile, and one infant) were found and removed by Dr. Cyrus N. Ray at Berry Farm, 20 miles west of Colorado City, Texas. Ray donated the human skeletal remains and associated funerary objects to the Museum in 1946. The four associated funerary objects are: three bridle ornaments; and a jackrabbit bone.

In 1955, human skeletal remains representing at least four individuals (one adult, one subadult, and two juvenile) were found in a rock shelter near Stanton, Texas and removed by Claude McKaskle. McKaskle donated the human skeletal remains and associated funerary objects to the Museum in 1956. The 1,387 funerary objects include: a soapstone pipe; saddle; hide robe; leather pieces; gourd bowl; buttons; bracelets; textile pieces representing saddle blankets and trade cloth; bear claws; bone whistle; wooden pieces; stirrup; bead necklaces; beads; horse hair; metal rings; conchos; lithics; faunal remains; and organic material.

In 1955, human skeletal remains representing at least one juvenile individual were found by J.D. White in a field heavily disturbed by plowing in the southwest portion of Yoakum County, Texas, approximately seven miles west and two miles north of Denver City. The human skeletal remains and associated funerary objects were unearthed by Jane Holden Kelley (Museum employee) in 1955 and subsequently lent to the University of Texas in Austin for research in 1961. The collection was not returned until 1988 and was accessioned in 1996. The 1,954 associated funerary objects include: shell hair pipes; textile fragments; cordage; fringe; parts of a bridle; bridle ornaments; metal pieces; a bugle; buttons; bracelets; saddle horn; saddle nails; buckles; rivets and tacks; a ring; bells; conchos; beads; leather with beads; leather; a scabbard; copper jingles; wood pieces; leather belt; leather pouch containing vermillion; and a partial horse skeleton.

Between 1995 and 2001, human skeletal remains representing at least three individuals (two adult and one juvenile) were found in a rock shelter in Blanco Canyon on the Overstreet Ranch. The human skeletal remains were donated to the Museum by Joyce Owens and accessioned in 2001. Associated funerary objects were removed but were retained by the landowner. These objects included: horse trappings; beads; conchos; hair pipes; tinklers; and bracelets.

In 1960, human skeletal remains representing at least one adult individual were found in a small re-entrant creek valley in the canyon breaks near Post, Texas and removed by Zoe Kirkpatrick. Kirkpatrick donated the human skeletal remains and associated funerary objects to the Museum in 2007. The 26,645 associated funerary objects include: a metal ring; metal tinklers; metal brackets; mirrors; bracelets; buttons; leather; textile; leather belt; conchos; an awl and awl case; saddle ornaments; chain; stirrups; bits; saddle horn; bridle ornaments; leather with bridle ornaments attached; metal pieces; buckles; leather pieces; rivets; shell hair pipes; and beads.

In 1984, human skeletal remains representing at least one adult were removed by Robert C. Palmer on his property in Martin County, Texas. The burial was located in Mustang Draw, between Mustang Pond and Mustang Springs on the upper valley margin. Palmer donated the burial to the Museum of the Southwest who transferred the burial to the Museum of Texas Tech University in 2012 for NAGPRA reporting purposes. The 1,061 associated funerary objects include beads and faunal material. Additional funerary objects were removed but were retained by the landowner. These objects included: horse trappings; a bone flute; other metal objects including a strike a light, metal knife, and metal projectile point; lithic material including shaft straighteners; and additional glass beads.

Cultural Affiliation

Based on the information available and the results of consultation, cultural affiliation is clearly identified by the information available about the human remains and associated funerary objects described in this notice.

Determinations

The Museum of Texas Tech University has determined that:

• The human remains described in this notice represent the physical remains of 17 individuals of Native American ancestry.

• The 31,401 objects described in this notice are reasonably believed to have been placed intentionally with or near individual human remains at the time of death or later as part of the death rite or ceremony.

• There is a reasonable connection between the human remains and associated funerary objects described in this notice and the Comanche Nation, Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after October 3, 2024. If competing requests for repatriation are received, the Museum of Texas Tech University must determine the most appropriate requestor prior to repatriation. Requests for joint repatriation of the human remains and associated funerary objects are considered a single request and not competing requests. The Museum of Texas Tech University is responsible for sending a copy of this notice to the Indian Tribes and Native Hawaiian organizations identified in this notice.

Authority: Native American Graves Protection and Repatriation Act, 25 U.S.C. 3003, and the implementing regulations, 43 CFR 10.10.

Dated: August 26, 2024.
Melanie O'Brien,
Manager, National NAGPRA Program.

[FR Doc. 2024-19674 Filed 8-30-24; 8:45 am]

BILLING CODE 4312-52-P